DEPARTMENT OF EDUCATION

Office of Special Education and Rehabilitative Services; Special Education—Research and Innovation To Improve Services and Results for Children With Disabilities Program

AGENCY: Department of Education.

ACTION: Notice inviting applications for new awards for fiscal year (FY) 2001.

SUMMARY: This notice provides closing dates and other information regarding the transmittal of applications for two FY 2001 competitions under one program authorized by the Individuals with Disabilities Education Act (IDEA), as amended: Special Education— Research and Innovation to Improve Services and Results for Children with Disabilities.

National Education Goals

The eight National Education Goals focus the Nation's education reform efforts and provide a framework for improving teaching and learning.

This priority addresses the National Education Goals that promote new partnerships to strengthen schools and expand the Department's capacities for helping communities to exchange ideas and obtain information needed to achieve the goals.

This priority would address the National Education Goals by helping to improve results for children with disabilities.

Waiver of Rulemaking

It is generally our practice to offer interested parties the opportunity to comment on proposed priorities. However, section 661(e)(2) of IDEA makes the Administrative Procedure Act (5 U.S.C. 553) inapplicable to the priorities in this notice.

General Requirements

(a) The projects funded under this notice must make positive efforts to employ and advance in employment qualified individuals with disabilities in project activities (see section 606 of IDEA).

(b) Applicants and grant recipients funded under this notice must involve individuals with disabilities or parents of individuals with disabilities in planning, implementing, and evaluating the projects (see section 661(f)(1)(A) of IDEA).

(c) The projects funded under these priorities must budget for a two-day Project Directors' meeting in Washington, DC during each year of the project.

(d) In a single application, an applicant must address only one absolute priority in this notice.

(e) Part III of each application submitted under a priority in this notice, the application narrative, is where an applicant addresses the selection criteria that are used by reviewers in evaluating the application. You must limit Part III to the equivalent of no more than the number of pages listed in the table at the end of this notice for each applicable priority, using the following standards:

• A “page” is 8.5″ x 11″ (on one side only) with one-inch margins (top, bottom, and sides).

• Double-space (no more than three lines per vertical inch) all text in the application narrative, including titles, headings, footnotes, quotations, and captions, as well as all text in charts, tables, figures, and graphs.

• If using a proportional computer font, use no smaller than a 12-point font, and an average character density no greater than 18 characters per inch. If using a nonproportional font or a typewriter, do not use more than 12 characters per inch.

The page limit does not apply to Part I, the cover sheet; Part II, the budget section, including the narrative budget justification; Part IV, the assurances and certifications; or the one-page abstract, the resumes, the bibliography or references, or the letters of support. However, you must include all of the application narrative in Part III.

We will reject without consideration or evaluation any application if—

• You apply these standards and exceed the page limit; or

• You apply other standards and exceed the equivalent of the page limit.

Research and Innovation To Improve Services and Results for Children With Disabilities [CFDA 84.324]

Purpose of Program: To produce, and advance the use of, knowledge to: (a) Improve services provided under IDEA, including the practices of professionals and others involved in providing those services to children with disabilities; and (b) improve educational and early intervention results for infants, toddlers, and children with disabilities.

Eligible Applicants: For absolute priority 1, eligible applicants are: Institutions of higher education (IHEs), Local educational agencies (LEAs), and private nonprofit organizations. For absolute priority 2, eligible applicants are: IHEs and private nonprofit organizations.

Applicable Regulations: (a) The Education Department General Administrative Regulations (EDGAR) in 34 CFR parts 74, 75, 77, 80, 81, 82, 85, 86, 97, 98, and 99; (b) The selection criteria for the priorities under this program are drawn from the EDGAR general selection criteria menu. The specific selection criteria for each priority are included in the funding application packet for the applicable competition.

Note: The regulations in 34 CFR part 86 apply to institutions of higher education only.

Priority

Under 34 CFR 75.105(c)(3), we consider only applications that meet one of the following priorities:

Absolute Priority 1—Centers for Implementing K-3 Behavior and Reading Intervention Models (CFDA 84.324X)

Background: Effective strategies that intervene early in a child's development are well recognized in improving results for children with disabilities. Unfortunately, approximately sixty percent of the children currently being served under IDEA are typically identified too late to receive full benefit from those interventions. This problem is most prominent with two specific populations of children—those identified for special education and related services under the categories “emotional disturbance” (ED) and “specific learning disabilities” (LD). These children are often not identified as being eligible for special education and related services until after their disabilities have reached severe proportions. These are children who, very early in their education, experience marked difficulties learning to read or exhibit behaviors that lead to discipline problems as they get older.

There currently exists a substantial and compelling body of research describing how to assess, identify, and help these children. For instance, research indicates that both populations of children:

(a) Can be assessed and identified early with relative ease and accuracy;

(b) Are at high risk for dropping out of school, becoming discipline problems, and failing in school;

(c) Often fall behind because they do not receive appropriate interventions earlier;

(d) Can make tremendous gains when provided with effective services during early childhood; and

(e) May need individually tailored interventions because one approach may not fit all children.

A key feature of promising schoolwide programs is their emphasis on the inclusion of all students in the school. Effective support for reading and behavior begins by attending to all students. Providing such support, in turn, requires understanding the range of reading difficulties and behavioral problems students present in schools and a knowledge of the research-based strategies and practices for addressing those difficulties and challenges. To meet these varied needs, interventions need to be systemic and address a range of needs across three groups, representing three levels of intervention intensity:

(a) Primary prevention involves universal instruction to avert the onset of behavioral problems and reading deficits such as research-based schoolwide reading and behavior programs.

(b) Secondary prevention refers to strategies and procedures that address small groups of students who need additional support or assistance to successfully acquire new skills in reading and behavior.

(c) Tertiary prevention involves more intense, specialized interventions, such as one-on-one interventions, for individual students who despite previous instruction and intervention efforts experience chronic behavioral problems or marked difficulties in learning to read.

Although previous research and model demonstration projects have evaluated many aspects of the reading process and approaches to behavior management, model demonstration projects have not been implemented and sustained extensively in LEAs to systematically evaluate—

(a) Professional development for regular and special education teachers related to intervening early with children with marked difficulties in reading and behavior;

(b) A continuum of varied interventions for children with reading and behavior difficulties;

(c) Scaffolding or support in all curriculum areas for children in K-3 with reading and behavior difficulties while providing specialized or intensive interventions in reading or behavior;

(d) Continuous assessment to determine and predict progress;

(e) Systemic changes to ensure sustainability of the model;

(f) Simultaneous reading and behavior interventions that target the interdependence of reading and behavior.

Priority

The purpose of this priority is to support six centers (two centers for reading, two centers for behavior, and two centers for reading and behavior) that will demonstrate school-based models of effective programs and practices to serve children grades K-3 who are identified as having marked difficulty learning to read or who exhibit serious behaviors that lead to discipline problems as they get older. The goals for these projects include:

(a) To implement systemic improvements in the provision of effective reading (tertiary) and behavior interventions (primary, secondary, and tertiary) in K-3, including systems for professional development and technical assistance;

(b) To improve reading and behavior results for children in grades K-3; and

(c) To implement effective models which are cost effective.

A coordination center will be funded separately to collect and analyze data from the six reading and behavior centers funded under this priority to determine the effectiveness across the three types of models—reading only, behavior only, and reading and behavior, and the cost effectiveness of the models. The reading and behavior centers and the coordination center must work together to decide on common measures. The reading and behavior centers must submit data to the coordination center according to a schedule that will be established during the first three months of the projects.

Projects funded under this priority must:

(a) Select schools for implementation in conjunction with the coordination center and subject to OSEP approval after the awards have been made.

(b) Implement reading or behavior model demonstrations in at least seven elementary schools (K-5 or K-6) that are representative of schools across the nation, including, but not limited to, schools having multiple classes at each grade level K-3 and students with a variety of cognitive and behavioral abilities.

(c) Provide comprehensive technical assistance to each of the schools.

(d) Collect data requested by the coordination center, using the methods and instruments that will be determined during the first three months, for both reading and behavior as well as detailed budgets for the cost of implementation of the model at each school.

(e) Cooperate with the coordination center and OSEP's evaluation efforts throughout the project period to determine core measures and instruments to use for assessment across projects, collect data on project challenges and progress throughout the project, and comply with the data collection procedures established with the coordination center and approved by OSEP.

For the application process, applicants must demonstrate organizational capacity in each of the areas below, and once awards are made, applicants are expected to successfully implement the following requirements within the targeted schools:

(a) Identifying students to participate who have a marked difficulty learning to read or who exhibit behaviors that lead to discipline problems later;

(b) Ensuring the provision of effective research-based instruction as part of primary and secondary intervention strategies;

(c) For a schoolwide focus on behavior, projects must demonstrate experience and success with developing the following components of schoolwide models:

(i) A mission or purpose statement;

(ii) A list of positively stated behavioral expectations or rules;

(iii) Procedures for directly teaching these expectations to students;

(iv) A continuum of strategies for encouraging these expectations;

(v) A continuum of strategies for discouraging rule violations; and

(vi) Procedures for record keeping and evaluation;

(d) All projects must demonstrate experience and success in identifying schools with a commitment of the faculty to address behavior or reading as a schoolwide priority;

(e) Establishing sustainable linkages, partnerships, and collaboration between local educational agencies (LEAs) and research and training programs at institutions of higher education (IHEs) or nonprofit educational organizations in the design, implementation, and evaluation of projects;

(f) Ensuring the designation of an implementation coordinator and the establishment of a committee, including the principal in each school, to support the project;

(g) Collaboration and linkages with Federally supported researchers and technical assistance providers;

(h) Evaluations that address the following—

(1) Providing information about how children at highest risk are identified;

(2) Monitoring each child's progress on a frequent basis, including both formative and summative evaluations; and

(3) Establishing criteria for a successful program;

(i) For reading projects—

(1) Identifying and describing the social, environmental, and cultural characteristics of each child; and

(2) Developing comprehensive case studies of each child to determine factors associated with risk, how they perform in other areas, how they performed in preschool, and characteristics related to reading (e.g., prereading development; language, speech and articulation; primary and secondary language);

(j) For behavior projects—

(1) Describing the social, environmental and cultural characteristics of participating groups of children or individual children; and

(2) Developing comprehensive case studies of groups of children or individual children to determine risk factors and possible causes, how the children perform in other areas, how they performed in preschool, and characteristics related to behavior;

(k) Establishing a school and family link related to reading or behavior;

(l) Describing a process for evaluating the needs at the school level (including school size and number of target students) and the amount of money requested; and

(m) Describing how an effective model will be sustained when the grant ends.

Projects funded under this priority must schedule three trips to Washington, D.C. the first year and two trips to Washington, DC each subsequent year: (1) One trip annually (as specified in the “General Requirements” section of this notice); (2) one trip annually to collaborate with the Federal project officer and the other projects funded under this priority, to share information and discuss model development, evaluation, and project implementation issues; and (3) one trip by the end of the first month of the project for a planning meeting with the coordination center and the other reading and behavior centers.

In deciding whether to continue this project for the fourth and fifth years, we will consider the requirements of 34 CFR 75.253(a), and in addition—

(a) The recommendation of a review team consisting of experts selected by the Secretary, which review will be conducted during the last half of the project's second year in Washington, DC. Projects must budget for the travel associated with this review;

(b) The timeliness and effectiveness with which all requirements of the negotiated cooperative agreement have been or are being met by the project; and

(c) The degree to which the project's design and methodology demonstrate the potential for advancing significant new knowledge.

Competitive Preference

Within this absolute priority, we will give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, we may consider the applicant's past success in pursuit of this goal.

Therefore, for purposes of this competitive preference, applicants can be awarded up to a total of 10 points in addition to those awarded under the published selection criteria for this priority. That is, an applicant meeting this competitive preference could earn a maximum total of 110 points.

Project Period: Under this priority, we will make two reading, two behavior and two reading and behavior for six cooperative agreements with project periods of up to 60 months.

Maximum Award: The maximum award amount is $900,000 for one component or $1,250,000 for two components for any single budget period of 12 months. Consistent with EDGAR 34 CFR 75.104(b), we will reject any application that proposes a budget funding level for any year that exceeds the stated maximum award amount for that year.

Page Limits: The maximum page limits for this focus are 70 double-spaced pages for one component (reading or behavior) and 100 double-spaced pages for two components (reading and behavior).

Note: Applications must meet the required page limit standards that are described in the “General Requirements” section of this notice.

Absolute Priority 2—Coordination Center for the K-3 Reading and Behavior Intervention Models (84.324Y)

Background: A priority (CFDA 84.324X) for six centers (two centers for reading, two centers for behavior, and two centers for reading and behavior) is being announced concurrently with this priority for a coordination center. The six centers will implement demonstrations of school-based models of effective programs and practices to serve children grades K-3 who are identified as having marked (i.e., tertiary) difficulty learning to read or who exhibit behaviors that may lead to discipline problems as they get older.

Priority

The purpose of this priority is to fund one cooperative agreement that will coordinate with the reading and behavior projects to conduct an evaluation of the six reading and behavior centers, as implemented by the entities receiving grants under the competition (CFDA 84.324X).

(a) The project must systematically evaluate:

(1) Professional development for regular and special education teachers related to intervening early with children with marked difficulties in reading and behavior;

(2) A continuum of varied interventions for children with reading and behavior difficulties;

(3) Scaffolding or support in all curriculum areas for children in K-3 with reading and behavior difficulties while providing specialized or intensive interventions in reading or behavior;

(4) Continuous assessment to determine and predict progress;

(5) Sustainability of the model; and

(6) Simultaneous reading and behavior interventions that target the interdependence of reading and behavior.

(b) The evaluation must provide information and recommendations regarding the extent to which the reading and behavior centers are meeting, and are likely to meet in the future, their fundamental goals individually and across the three types of centers (i.e., reading, reading and behavior, and behavior):

(1) To implement systemic improvements in the provision of effective reading and behavior interventions in K-3, including systems for professional development and technical assistance;

(2) To improve reading and behavior results for children in grades K-3; and

(3) To implement effective models that are cost effective.

(c) At a minimum, this project must—

(1) Propose a design for the evaluation that includes:

(i) An initial set of evaluation questions based on the purposes of the evaluation as stated previously;

(ii) A description of the overall approach or type of evaluation to be conducted, ensuring that the design effectively controls for competing explanations of treatment effects;

(iii) A description of how control groups, which are representative of schools across the nation, having, for example, multiple classes at each grade level K-3, and a variety of cognitive and behavioral abilities, have been established in prior work and how they will be established for the evaluation of the reading and behavior projects;

(iv) A matrix of potential sources of evaluation data for reading and behavior projects receiving funds during the term of this cooperative agreement, the methods of data collection, the suggested instruments to be used, and other measurement issues related to each of the evaluation questions. Qualitative or quantitative data collection methods may be proposed, however, the methods chosen must allow data to be collected with precision, maximize validity and reliability, and include measures that are sufficiently robust to assess effects of alternative interventions across all grants; and

(v) A plan that outlines the type of data to be gathered and the specific analyses to be conducted, including appropriate statistical or valuational criteria to be applied to these data. The plan should also indicate how best to communicate the results of the analyses to OSEP and other interested parties.

(2) Demonstrate knowledge of research-based practices and prior experience with schoolwide reading and behavior programs;

(3) Propose a timeline for implementing the design over the 5 years of the project period that allows for refining the evaluation design with the reading and behavior centers in the first year, determining testing instruments, and initiating human subjects clearance, as needed;

(4) Submit a final design report at the end of 3 months from the start date;

(5) Propose a communication plan with OSEP that describes:

(i) Methods for providing consistent and timely updates regarding the progress of this project and for identifying any constraints or barriers that arise in implementing the final evaluation design, budget changes, preliminary findings, and reports. The communication plan should include the annual Grant Performance Report for Continuation Funding and trips to Washington, DC as described elsewhere in this priority;

(ii) A series of interim reports containing study findings relative to the research questions and consistent with the timeline for implementing the design; and

(iii) A final technical report of the evaluation (due 60 months following the start date of the project). A detailed outline of the final report must be submitted for review by the project officer 57 months after the start date of the project. In addition, the project officer shall have an opportunity to provide input on a draft version of the final report 59 months after the start date. The report is due 60 months after the start date of the project and must contain, at minimum, the following sections:

(A) Executive Summary;

(B) Background information on the reading and behavior programs;

(C) Description of the evaluation study;

(D) Results;

(E) Discussion of results; and

(F) Conclusions, recommendations, and options; and

(iv) Implement the evaluation consistent with the design, timeline, and communication plan;

(6) Collaborate with the reading and behavior centers in the selection of schools subject to OSEP approval;

(7) Disseminate the best practices to other schools and LEAs in consultation with OSEP; and

(d) The project funded under this priority must schedule three trips to Washington, DC the first year and two trips to Washington, DC each subsequent year: (1) One trip, annually (as specified in the “General Requirements” section of this notice); (2) one trip, annually to collaborate with the Federal project officer and the projects funded under the Centers for Implementing K-3 Schoolwide Behavior and Reading Intervention Models (84.324X), to share information and discuss model development, evaluation, and project implementation issues; and (3) one trip by the end of the first month of the project for: (i) A planning meeting with the reading and behavior centers, and (ii) a meeting with the OSEP project officer and other OSEP staff to review and revise, if necessary, the proposed evaluation design (including the evaluation questions and analysis plan), the timeline and communication plan. The final versions of these documents, including any changes resulting from this meeting, will be incorporated into the requirements of the cooperative agreement.

In deciding whether to continue this project for the fourth and fifth years, we will consider the requirements of 34 CFR 75.253(a), and in addition—

(a) The recommendation of a review team consisting of experts selected by the Secretary, which review will be conducted during the last half of the project's second year in Washington, D.C. Projects must budget for the travel associated with this review;

(b) The timeliness and effectiveness with which all requirements of the negotiated cooperative agreement have been or are being met by the project; and

(c) The degree to which the project's design and methodology demonstrate the potential for advancing significant new knowledge.

Competitive Preference

Within this absolute priority, we will give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, we may consider the applicant's past success in pursuit of this goal.

Therefore, for purposes of this competitive preference, applicants can be awarded up to a total of 10 points in addition to those awarded under the published selection criteria for this priority. That is, an applicant meeting this competitive preference could earn a maximum total of 110 points.

Project Period: Under this priority, we will make one award for a cooperative agreement with a project period of 60 months subject to the requirements of 34 CFR 75.253(a) for continuation awards.

Maximum Award: The maximum award amount is $1,200,000 for any single budget period of 12 months. Consistent with EDGAR 34 CFR 75.104(b), we will reject any application that proposes a budget funding level for any year that exceeds the stated maximum award amount for that year.

Page Limits: The maximum page limit for this priority is 100 double-spaced pages.

Note: Applications must meet the required page limit standards that are described in the “General Requirements” section of this notice.

For Applications Contact: Education Publications Center (ED Pubs), P.O. Box 1398, Jessup, Maryland 20794-1398. Telephone (toll free): 1-877-4ED-Pubs (1-877-433-7827). FAX: 301-470-1244. Individuals who use a telecommunications device for the deaf (TDD) may call (toll free) 1-877-576-7734.

You may also contact Ed Pubs via its Web site (http://www.ed.gov/pubs/edpubs.html) or its E-mail address (edpubs@inet.ed.gov).

If you request an application from ED Pubs, be sure to identify these competitions as follows: CFDA 84.324X and CFDA 84.324Y.

FOR FURTHER INFORMATION CONTACT: Grants and Contracts Services Team, U.S. Department of Education, 400 Maryland Avenue, S.W., room 3317, Switzer Building, Washington, DC 20202-2550. Telephone: (202) 260-9182.

If you use a TDD you may call the Federal Information Relay Service (FIRS) at 1-800-877-8339.

Individuals with disabilities may obtain this document in an alternative format (e.g., Braille, large print, audiotape, or computer diskette) on request to the contact persons listed in the preceding paragraph.

Individuals with disabilities may obtain a copy of the application package in an alternative format by contacting the Department as listed above. However, the Department is not able to reproduce in an alternative format the standard forms included in the application package.

Individuals With Disabilities Education Act Application Notice For Fiscal Year 2001
CFDA No. and name | Application available | Application deadline date | Deadline for intergovernmental review | Maximum award (per of year) ¹ | Project period | Page Limit ² | Estimated No. awards
84.324X Centers for Implementing K-3 Behavior and Reading Intervention Models | 06/22/01 | 08/03/01 | 10/02/01 |  | Up to 60 mos |  | 6
1 component |  |  |  | $900,000 |  | 70 |
2 components |  |  |  | 1,250,000 |  | 100 |
84.324Y Coordination Center for Implementing K-3 Behavior and Reading Intervention Models | 06/22/01 | 08/03/01 | 10/02/01 | 1,200,000 | Up to 60 mos | 100 | 1
¹ Consistent with EDGAR 34 CFR 75.104(b), we will reject any application that proposes a project funding level for any year that exceeds the stated maximum award amount for that year.
² Applicants must limit the Application Narrative, Part III of the Application, to the page limits noted. Please refer to the “Page Limit” requirements included under each priority description and the page limit standards described in the “General Requirements” section. We will reject and will not consider an application that does not adhere to this requirement.

Electronic Access to This Document

You may view this document, as well as all other Department of Education documents published in the Federal Register, in text or portable document format (PDF) on the internet at the following site: www.ed.gov/legislation/FedRegister.

To use PDF you must have Adobe Acrobat Reader, which is available free at the previous site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo/nara/index.html.

Program Authority: 20 U.S.C. 1472.

Dated: June 13, 2001.
Francis V. Corrigan,
Deputy Director, National Institute on Disability and Rehabilitation Research.

[FR Doc. 01-15349 Filed 6-15-01; 8:45 am]

BILLING CODE 4000-01-P